DEPARTMENT OF TRANSPORTATION

Federal Aviation Administration

Full Electronic Distribution of Airworthiness Directives

AGENCY: Federal Aviation Administration (FAA), DOT.

ACTION: Notice of policy change; final disposition.

SUMMARY: This notice announces the FAA's schedule for transitioning to full electronic distribution of airworthiness directives (ADs). This transition will provide a timelier and more cost effective method for the FAA to provide safety information.

FOR FURTHER INFORMATION CONTACT: Josh Peebles, Federal Aviation Administration, Aircraft Certification Service, Aircraft Engineering Division, Delegation and Airworthiness Programs Branch, AIR-140, 6500 S. MacArthur Blvd., Oklahoma City, Oklahoma 73125. Telephone: (405) 954-1345; fax: (405) 954-2209, or e-mail: josh.peebles@faa.gov.

SUPPLEMENTARY INFORMATION:

Background

On August 24, 2006 we published a notice in the Federal Register (71 FR 50113) to announce changes in our AD and Special Airworthiness Information Bulletins (SAIB) printing and distribution policy. We also announced our intention to transition to full electronic distribution for ADs and notified the public that we would immediately stop mailing paper copies of SAIBs.

On March 1, 2007 we published a notice in the Federal Register (72 FR 9394) to announce our e-mail subscription service for ADs and SAIBs. The service, known as GovDelivery, was activated in May 2007 and is accessible from the Regulatory and Guidance Library (RGL) homepage at: http://rgl.faa.gov. The service is free of charge and allows any interested party to subscribe. Subscribers may choose to receive all published documents or only those pertaining to a specific product make and model. They also may choose to receive all published documents for general categories such as `small airplane' or `engine.' The subscription service sends ADs and SAIBs to the e-mail address of each subscriber within minutes after publication in the RGL.

In September of 2007, the FAA stopped mailing paper copies of ADs and SAIBs to all owners and operators of transport airplanes and engines installed on transport airplanes.

Full Electronic Distribution

a. We will stop mailing paper copies of the remaining products according to the following schedule:

Product | Date
Transport rotorcraft and rotorcraft engines | October 1, 2009.
All other rotorcraft and rotorcraft engines | January 1, 2010.
All aircraft, engines, and propellers | March 1, 2010.

b. Owners and operators should use the following resources to obtain AD and SAIB information electronically:

(1) Regulatory and Guidance Library (RGL) Web site: http://rgl.faa.gov.

(2) Federal Register Web site: http://www.gpoaccess.gov/fr/

(3) GovDelivery e-mail service—ADs are automatically e-mailed to subscribers who sign-up through the RGL homepage.

c. For those people who might not have computer access or who still desire paper copies, the FAA will continue to provide the AD Biweekly, which is a paid subscription of all ADs issued in the Federal Register over the previous 2-week period. The AD Biweekly is printed and mailed by the Government Printing Office (GPO) and does not include SAIBs. Contact the GPO directly at phone: (202) 512-1806 to subscribe.

d. We will continue to fax and or mail paper copies of Emergency ADs until further notice.

Issued in Washington, DC, on July 30, 2009.
Susan J. M. Cabler,
Assistant Manager, Aircraft Engineering Division, Aircraft Certification Service.

[FR Doc. E9-18646 Filed 8-4-09; 8:45 am]

BILLING CODE 4910-13-P